DEPARTMENT OF COMMERCE

National Oceanic and Atmospheric Administration

RIN 0648-XW84

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on Tuesday through Thursday, June 22-24, 2010, to consider actions affecting New England fisheries in the exclusive economic zone (EEZ).

DATES: The meeting will begin on Tuesday, June 22 at 9 a.m. and Wednesday and Thursday, June 23-24, beginning at 8:30 a.m.

ADDRESSES: The meeting will be held at the Eastland Park Hotel,157 High Street, Portland, ME 04101; telephone: (207) 775-5411; fax: (207) 775-2872.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, June 22, 2010

Following introductions and any announcements, the Council meeting will begin with a series of brief reports from the Council Chairman and Executive Director, the NOAA Fisheries Regional Administrator, Northeast Region, Northeast Fisheries Science Center and Mid-Atlantic Fishery Management Council liaisons, NOAA General Counsel, representatives of the U.S. Coast Guard and the Atlantic States Marine Fisheries Commission, as well as NOAA Enforcement. The Enforcement Committee will then report about simplifying and enforcing fishing regulations, including those associated with sector management, and provide an update about improving relations with stakeholders. This will be followed by a separate U.S. Coast Guard presentation that addresses safety at sea relative to the problem of ageing fishing vessels. During the Tuesday afternoon session, the Northeast Regional Ocean Council will provide a briefing on its mission and objectives and discuss its potential relationship with the NEFMC; and the Habitat Committee will bring forward for Council consideration alternative management measures to reduce or spatially optimize the adverse effects of fishing on essential fish habitat. The measures are under consideration for inclusion in Habitat Omnibus Amendment 2, an action which would amend all NEFMC Fishery Management Plans (FMPs).

Wednesday, June 23, 2010

During the morning session, the Council will address only multispecies groundfish management-related issues. These will include: initial action on Framework Adjustment 45 to the Northeast Multispecies FMP. Measures under consideration include possible modification of the Georges Bank yellowtail flounder stock rebuilding strategy, new sector requests and a general category scallop dredge exemption for yellowtail flounder in the Great South Channel. Other Framework 45 measures include a party/charter boat limited entry control date, a Gulf of Maine winter flounder zero possession limit, accountability measures and permit banks in the groundfish fishery. Additional discussion is scheduled to consider the possibility of an amendment to address fleet diversity and accumulation limits for this fishery and an update on activities associated with the Joint Groundfish/Sea Scallop Committee. The afternoon session will begin with an overview of the status of spiny dogfish by the staff of the Northeast Fisheries Science Center, followed by the Scientific and Statistical Committee's (SSC) report on its most recent meeting. The SSC's topics include a recommendation for a revised red crab Acceptable Biological Catch (ABC) to now include discards, an ABC for Atlantic salmon and reports on progress to date concerning its ABC control rules, five-year research priorities and an ecosystem-based fisheries management white paper. This report will be followed by Council actions to revise the red crab ABC and set the Atlantic salmon ABC. The day will end with a review of analyses and public comments concerning a monkfish management alternative proposed at the last Council meeting. If approved, the addition of this management measure will constitute the final action on Amendment 5 to the Monkfish FMP.

Thursday, June 24, 2010

The last day of the June Council meeting will include a review of any experimental fishery permit applications that have been received since the last Council meeting, revisiting Council work priorities based on comments from the April Council meeting and an open period for public comments. The open public period is an opportunity for interested parties to provide brief comments on issues relevant to Council business but not listed on the meeting agenda. There also will be a report by NOAA Fisheries on recreational fishing issues. The Sea Scallop Committee also will begin their report during the morning session on Thursday and may take initial action on Framework Adjustment 22 to the Atlantic Sea Scallop FMP. The primary purpose of the action is to set fishery specifications for the 2011-12 fishing years. The action also will include measures to minimize the risk sea scallop gear/incidental encounters with sea turtles. The Council also will review and finalize scallop research recommendations that will apply to the fishery management plan's research set-aside program. Before adjournment, the Council may address any other outstanding business related to this meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: June 2, 2010.
William D. Chappell,
Acting Director, Office of Sustainable Fisheries, National Marine Fisheries Service.

[FR Doc. 2010-13567 Filed 6-7-10; 8:45 am]

BILLING CODE 3510-22-S